DEPARTMENT OF COMMERCE

National Oceanic and Atmospheric Administration

Proposed Information Collection; Comment Request; Coastal and Marine Ecological Classification Standard Solicitation for Revisions

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 27, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Becky Allee, Office for Coastal Management, 1021 Balch Blvd., Suite 1003, Stennis Space Center, MS 39529, (228) 688-1701, becky.allee@noaa.gov.

SUPPLEMENTARY INFORMATION:

I. Abstract

This is a request for review of a new information collection.

NOAA's Office of Coastal Management (OCM) is proposing a new information collection that will allow interested parties to submit requests for revisions to update the Coastal and Marine Ecological Classification Standard (CMECS). CMECS was approved by the Federal Geographic Data Committee (FGDC) in August 2012 and provides a national standard for consistent descriptions of coastal and marine ecological features. The primary uses of CMECS are in mapping and classifying the geological, physical, biological, and chemical components of the environment. Among other applications, the CMECS framework can be used to integrate data from disparate sources, facilitate comparisons among sites, and organize data for regional assessment. Since its publication in 2012, the CMECS has been used to characterize habitats ranging from coastal wetlands and estuaries to the deep ocean and at local to global scales. Benefits of CMECS include: Data collected by different sensors and methods can be integrated into a single database; all the physical, biological, and chemical-forcing functions that collectively determine a habitat type can be captured; and the system has the flexibility to accommodate new units as additional information becomes available.

The CMECS was developed as a dynamic standard to allow periodic revisions to continue to meet the needs of the user community and as such, the CMECS can be updated to accommodate the requirements of evolving scientific practices, technology, and coastal and marine resource management. The review process allows the CMECS to retain its consistency, credibility, and rigor through periodic reviews and an orderly, authoritative, and transparent updating process as required by the Federal Geographic Data Committee. Anyone can propose changes, which can include minor edits, such as grammatical or typographical corrections, clarifications of definitions and meaning, or more substantial changes to the hierarchy within components. The CMECS Implementation Group, through the Office for Coastal Management, has determined it is necessary to initiate the dynamic standard process to revise the CMECS. We are soliciting recommendations for revisions to the CMECS through a form to be posted on the CMECS website. All recommendations collected will be reviewed and revisions will be made to the CMECS to reflect those recommendations found to be valuable for implementation of the CMECS and supportive of the user community needs.

II. Method of Collection

Information will primarily be collected through a form on the CMECS website; however, we will also accept paper format for anyone unable to access the form through the internet. Some follow up interviews may occur to better understand recommendations as needed.

III. Data

OMB Control Number: 0648-NEW.

Form Number(s): None.

Type of Review: Regular submission; request for a new information collection.

Affected Public: Coastal scientists and managers throughout the United States responsible for characterization of coastal and marine habitats or ecosystems more broadly. This may include academia; non-governmental organizations; State, Local or Tribal government; Federal government; and for-profit environmental support businesses.

Estimated Number of Respondents: 100

Estimated Time per Response: 1 hour

Estimated Total Annual Burden Hours: 100

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Clearance Officer, Office of the Chief Information Officer, Commerce Department.

[FR Doc. 2020-03963 Filed 2-26-20; 8:45 am]

BILLING CODE 3510-JE-P